COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and a service to the Procurement List that will be furnished by nonprofit agencies employing persons who are blind or have other severe disabilities, and deletes a product previously furnished by such agency.

Comments Must Be Received On or Before: 7/25/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

Paper, Xerographic Copier and Printer Paper, Neon Colors

NSN: 7530-01-398-2680—8½″ x 11″, Neon Pink.

NSN: 7530-01-398-2681—8½″ x 11″, Neon Blue.

NSN: 7530-01-398-2682—8½″ x 11″, Neon Green.

NPA: Louisiana Association for the Blind, Shreveport, LA.

Contracting Activity: General Services Administration, New York, NY.

Coverage: A-List for the Total Government Requirement as aggregated by the General Services Administration.

NSN: 7530-00-NIB-1004—Notebook, Spiral Bound, 100% PCW, 8½ x 11″, 80 sheets, College Rule, White.

NSN: 7530-00-NIb-1005—Notebook, Spiral Bound, 100% PCW, 8½ x 11″, 100 sheets, College Rule, White.

NSN: 7530-00-NIB-1007—Notebook, Spiral Bound, 100% PCW, 5 x 7½″, 80 sheets, College Rule, White.

NSN: 7530-00-NIB-1008—Notebook, Spiral Bound, 100% PCW, 6 x 9½″, 80 sheets, College Rule, White.

NSN: 7530-00-NIB-1010—Notebook, Spiral Bound, 100% PCW, 6 x 9½″, 150 sheets, College Rule, White.

NSN: 7530-00-NIB-1011—Notebook, Spiral Bound, 100% PCW, 8½ x 11″, 200 sheets, College Rule, White.

NSN: 7530-00-NIB-1018—Notebook, Stenographer's, Biobased Begasse Paper, 6 x 9″, 80 sheets, Gregg Rule, White.

NSN: 7530-00-NIB-1019—Notebook, Spiral Bound, Biobased Begasse Paper, 8 x 10½″, 70 sheets, College Rule, White.

NSN: 7530-00-NIB-1021—Notebook, Spiral Bound, Biobased Begasse Paper, 8 x 11″, 100 sheets, College Rule, White.

NSN: 7530-00-NIB-1022—Notebook, Spiral Bound, Biobased Begasse Paper, 6 x 9½″, 150 sheets, College Rule, White.

NSN: 7530-00-NIB-1024—Notebook, Stenographer's, 100% PCW, 6 x 9″, 60 sheets, Gregg Rule, White.

NSN: 7530-00-NIB-1025—Notebook, Spiral Bound, 100% PCW, 8 x 10½″, 70 sheets, Wide Rule, White.

Coverage: A-List for the Total Government Requirement as aggregated by the General Services Administration.

NSN: 7530-00-NIB-1003—Notebook, Memorandum Book, 100% PCW, 3 x 5″, 60 sheets, Narrow Rule, White.

NSN: 7530-00-NIB-1006—Notebook, Spiral Bound, 100% PCW, 8½ x 11″, 100 sheets, Wide Rule, White.

NSN: 7530-00-NIB-1009—Notebook, Spiral Bound, 100% PCW, 8½ x 11″, 120 sheets, College Rule, White.

NSN: 7530-00-NIB-1020—Notebook, Spiral Bound, Biobased Begasse Paper, 5 x 7½″, 80 sheets, College Rule, White.

NSN: 7530-00-NIB-1023—Notebook, Spiral Bound, Biobased Begasse Paper, 8½ x 11″, 200 sheets, College Rule, White.

Coverage: B-List for the Broad Government Requirement as aggregated by the General Services Administration.

NPA: The Arkansas Lighthouse for the Blind, Little Rock, AR.

Contracting Activity: General Services Administration, New York, NY.

NSN: 7920-00-NIB-0520—Duster Material, Easy Trap, Roll, Large.

NSN: 7920-00-NIB-0521—Duster Material, Easy Trap, Dispenser Box, Large.

NSN: 7920-00-NIB-0503—Duster Material, Easy Trap, Dispenser Box, Standard Size.

NSN: 7920-00-NIB-0502—Duster Material, Easy Trap, Roll, Standard Size.

NPA: New York City Industries for the Blind, Inc., Brooklyn, NY.

Contracting Activity: General Services Administration, Fort Worth, TX.

Coverage: B-List for the Broad Government Requirement as aggregated by the General Services Administration.

NSN: 7530-00-NIB-0982—Monthly Desk Planner, Wire Bound, Non-refillable, Black cover.

NSN: 7530-00-NIB-1026—Weekly Planner Book, Dated, 5″ x 8″, Digital Camouflage.

NSN: 7530-00-NIB-0986—Weekly Desk Planner, Wire Bound, Non-refillable, Black cover.

NSN: 7530-00-NIB-0987—Daily Desk Planner, Wire bound, Non-refillable, Black Cover.

NSN: 7530-00-NIB-1027—Monthly Wall Calendar, Dated, Jan-Dec, 8½″ x 11″.

NSN: 7510-00-NIB-1803—Wall Calendar, Dated, Wire Bound w/Hanger, 12″ x 17″.

NSN: 7510-00-NIB-1804—Wall Calendar, Dated, Wire Bound w/hanger, 15.5″ x 22″.

NPA: The Chicago Lighthouse for People Who Are Blind or Visually Impaired, Chicago, IL.

Contracting Activity: General Services Administration, New York, NY.

Coverage: A-List for the Total Government Requirement as aggregated by the General Services Administration.

NSN: 8465-01-580-1303—Entrenching Tool Carrier, MOLLE Components, OCP.

NPA: Dallas Lighthouse for the Blind, Inc., Dallas, TX.

Contracting Activity: Department of the Army Research, Development, & Engineering Command, Natick, MA.

Coverage: C-List for 100% of the requirement for initial fielding and Rapid Fielding Initiative of the Department of the Army, as aggregated by the Department of the Army Research, Development, & Engineering Command, Natick, MA.

Service

Service Type/Location: Custodial Service, Ft. Jackson, SC.

NPA: SC Vocations & Individual Advancement, Inc., Greenville, SC.

Contracting Activity: Dept of the Army, W6QM Ft Jackson DOC, Fort Jackson, SC.

Deletion

Regulatory Flexibility Act Certification

I certify that the following action will not have a significant impact on a substantial number of small entities. The major factors considered for this certification were:

1. If approved, the action will not result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

End of Certification

The following product is proposed for deletion from the Procurement List:

Product

Detergent, Laundry

NSN: 7930-01-506-7081.

NPA: East Texas Lighthouse for the Blind, Tyler, TX.

Contracting Activity: Defense Logistics Agency Troop Support, Philadelphia, PA.

Barry S. Lineback,
Director, Business Operations.

[FR Doc. 2011-15822 Filed 6-23-11; 8:45 am]

BILLING CODE 6353-01-P